DEPARTMENT OF JUSTICE

Office of Justice Programs

[OMB Number 1121-0330]

Agency Information Collection Activities; Proposed Collection; Comments Requested; Extension of Currently Approved Collection: Bureau of Justice Assistance Application Form; Law Enforcement Congressional Badge of Bravery

ACTION: 30-Day Notice.

The Department of Justice, Office of Justice Programs, Bureau of Justice Assistance, will be submitting the following information collection request for review to the Office of Management and Budget (OMB) for review and approval in accordance with the Paperwork Reduction Act of 1995. This proposed information collection is published to obtain comments from the public and affected agencies. This proposed information collection was previously published in the Federal Register, Volume 78, Number 146, pages 45971-45972, on July 30, 2013, allowing for a 60 day comment period.

The purpose of this notice is to allow for an additional 30 days for public comment until November 4, 2013. This process is conducted in accordance with 5 CFR 1320.10 If you have additional comments, suggestions, or need a copy of the proposed information collection instrument with instructions or additional information, please contact Chris Casto at 202-353-7193, Bureau of Justice Assistance, Office of Justice Programs, U. S. Department of Justice, 810 7th Street NW., Washington, DC 20531 or by email at Chris.Casto@usdoj.gov.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of information collection: Extension of currently approved collection.

(2) The title of the form/collection: Law Enforcement Congressional Badge of Bravery (CBOB).

(3) The agency form number, if any, and the applicable component of the Department sponsoring the collection: None. Bureau of Justice Assistance, Office of Justice Programs, United States Department of Justice.

(4) Affected public who will be asked or required to respond, as well as a brief abstract:

Primary: BJA's CBOB Office will use the CBOB application information to confirm the eligibility of applicants to be considered for the CBOB, and forward the application as appropriate to the Federal or the State and Local CBOB Board for their further consideration. In General—A Federal/State and Local agency head many nominate for a Federal/State and Local Law Enforcement Badge and individual—(1) who is a Federal/State and Local law enforcement officer working within the agency of the Federal/State and Local agency head making the nomination; and (2) who—(A)(i) sustained a physical injury while—(I) engaged in the lawful duties of the individual; and (II) performing an act characterized as bravery by the Federal/State and Local agency head making the nomination; and (ii) put the individual at personal risk when the injury described in clause (i) occurred; or (B) while not injured, performed and act characterized as bravery by the Federal/State and Local agency head making the nomination that placed the individual at risk of serious physical injury or death. The U.S. Department of Justice's Office of Justice Programs' Bureau of Justice Assistance has been authorized to administer the Law Enforcement Congressional Badge of Bravery (CBOB) Program.

Others: None.

(5) An estimate of the total number of respondents and the amount of time needed for an average respondent to respond is as follows: Over the first three years of this program, and average of 184 applications were submitted annually. Each application takes approximately 20 minutes to complete.

(6) An estimate of the total public burden (in hours) associated with the collection is 61 hours. Total Annual Reporting Burden: 184 × 20 minutes per application = 3680 minutes/by 60 minutes per hour = 61 hours.

If additional information is required, please contact Jerri Murray, Department Clearance Officer, United States Department of Justice, Justice Management Division, Policy and Planning Staff, Two Constitution Square, 145 N Street NE., Washington, DC 20530.

Dated: September 30, 2013.
Jerri Murray,
Department Clearance Officer for PRA, United States Department of Justice.

[FR Doc. 2013-24300 Filed 10-3-13; 8:45 am]

BILLING CODE 4410-18-P